DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Seafood Inspection and Certification Requirements.

OMB Control Number: 0648-0266.

Form Number(s): 89-800, 89-814, 89-819.

Type of Request: Regular submission (extension of a current information collection).

Number of Respondents: 3,339.

Average Hours per Response: Application for inspection, application for appeal of previous inspection results and contract completion or amendment, 5 minutes each; label and specification submission, 30 minutes; HACCP plan, 60 hours; recordkeeping requirements related to an existing plan, 40 hours.

Burden Hours: 8,139.

Needs and Uses: The National Marine Fisheries Service (NMFS) operates a voluntary fee-for-service seafood inspection program (Program) under the authorities of the Agricultural Marketing Act of 1946, as amended, the Fish and Wildlife Act of 1956, and the Reorganization Plan No. 4 of 1970. The regulations for the Program are contained in 50 CFR part 260. The program offers inspection grading and certification services, including the use of official quality grade marks which indicate that specific products have been Federally inspected. Those wishing to participate in the Program must request the services and submit specific compliance information. In July 1992, NMFS announced new inspection services, which were fully based on guidelines recommended by the National Academy of Sciences, known as Hazard Analysis Critical Control Point (HACCP). The information collection requirements fall under § 260.15 of the regulations. These guidelines required that a facility's quality control system have a written plan of the operation, identification of control points with acceptance criteria and a corrective action plan, as well as identified personnel responsible for oversight of the system. The chapter entitled “Development, Assessment, Approval, and Continuing Compliance Evaluation of HACCP-based Inspection Systems,” from the NMFS Fishery Products Inspection Manual, describes in detail the requirements for participants choosing to receive NMFS HACCP-based inspection services.

Affected Public: Business or other for-profit organizations.

Frequency: On occasion.

Respondent's Obligation: Required to obtain or retain benefits.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: February 10, 2012.
Gwellnar Banks,
Management Analyst, Office of the Chief Information Officer.

[FR Doc. 2012-3615 Filed 2-15-12; 8:45 am]

BILLING CODE 3510-22-P